DEPARTMENT OF DEFENSE

Office of the Secretary

Missile Defense Advisory Committee Closed Meeting

AGENCY: Department of Defense; Missile Defense Agency (MDA).

ACTION: Meeting notice; correction.

SUMMARY: The Department of Defense, Missile Defense Advisory Committee announced a closed meeting for May 13 and 14, from 8 a.m. to 5 p.m., in the Federal Register on March 24, 2008 (73 FR 15496). This notice is being published to announce a change in the meeting dates and agenda topics. There are no other changes to the original notice.

DATES: Wednesday, May 14, 2008 (8 a.m. to 5 p.m.). Security clearance and visit requests are required for access.

FOR FURTHER INFORMATION CONTACT: Mr. Al Bready, Designated Federal Officer at mdac@mda.mil, phone/voice mail 703-695-6438, or mail at 7100 Defense Pentagon, Washington, DC 20301-7100.

SUPPLEMENTARY INFORMATION: Agenda: Topics tentatively scheduled for discussion include, but are not limited to administrative work; Background Information on the Virtual Warfare Center; MDA Engineering Capabilities and Responsibilities; the National Capital Region's Operations Center; and development of final outbrief to the Director, Missile Defense Agency.

May 7, 2008.
Patricia L. Toppings,
OSD Federal Register Liaison Officer, Department of Defense.

[FR Doc. E8-11121 Filed 5-16-08; 8:45 am]

BILLING CODE 5001-06-P